DEPARTMENT OF HEALTH AND HUMAN SERVICES

National Institutes of Health

Prospective Grant of an Exclusive Patent License: NCGC00413972 and Its Related Analogs Consisting of an Imidazo-Pyrazine Scaffold Core for the Treatment or Prevention of Cancers Expressing the Mannose Receptor CD206, Including Both Solid Tumors and Hematological Malignancies

AGENCY: National Institutes of Health, HHS.

ACTION: Notice.

SUMMARY: The National Cancer Institute, an institute of the National Institutes of Health, Department of Health and Human Services, is contemplating the grant of an Exclusive Patent License to practice the inventions embodied in the Patent Applications listed in the Supplementary Information section of this notice to Macala Bio, Inc. located in 1000 NW Wall Street, Suite 220, Bend, OR 97703.

DATES: Only written comments and/or applications for a license which are received by the National Cancer Institute's Technology Transfer Center on or before March 23, 2022 will be considered.

ADDRESSES: Requests for copies of the patent application, inquiries, and comments relating to the contemplated an Exclusive Patent License should be directed to: Eric Cheng, Ph.D., Licensing and Patenting Manager at (240)-276-5530 or eric.cheng2@nih.gov.

SUPPLEMENTARY INFORMATION:

Intellectual Property

United States Provisional Patent Application No. 62/950,488, filed 19 December 2019 and entitled “CD206 Modulators Their Use And Methods For Preparation” [HHS Reference No. E-105-2019/0-US-01];

PCT Patent Application PCT/US2020/065238, filed 16 December 2020 and entitled “CD206 Modulators Their Use And Methods For Preparation” [HHS Reference No. E-105-2019-0-PCT-02].

The patent rights in these inventions have been assigned and/or exclusively licensed to the government of the United States of America.

The prospective exclusive license territory may be worldwide and the field of use may be limited to: NCGC00413972 and its related analogs consisting of an imidazo-pyrazine scaffold core for the treatment or prevention of cancers expressing the mannose receptor CD206, including both solid tumors and hematological malignancies.

This technology discloses immunotherapy drugs, and to compounds that modulate CD206 as well as their use and methods for preparation.

This notice is made in accordance with 35 U.S.C. 209 and 37 CFR part 404. The prospective exclusive license will be royalty bearing, and the prospective exclusive license may be granted unless within fifteen (15) days from the date of this published notice, the National Cancer Institute receives written evidence and argument that establishes that the grant of the license would not be consistent with the requirements of 35 U.S.C. 209 and 37 CFR part 404.

In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: March 2, 2022.
Richard U. Rodriguez,
Associate Director, Technology Transfer Center, National Cancer Institute.

[FR Doc. 2022-04829 Filed 3-7-22; 8:45 am]

BILLING CODE 4140-01-P